DEPARTMENT OF COMMERCE

National Oceanic and Atmospheric Administration

[RTID 0648-XD175]

New England Fishery Management Council; Public Meeting

AGENCY: National Marine Fisheries Service (NMFS), National Oceanic and Atmospheric Administration (NOAA), Commerce.

ACTION: Notice of public meeting.

SUMMARY: The New England Fishery Management Council is convening its Scientific and Statistical Committee (SSC) via webinar to consider actions affecting New England fisheries in the exclusive economic zone (EEZ). Recommendations from this group will be brought to the full Council for formal consideration and action, if appropriate.

DATES: This webinar will be held on Thursday, August 10, 2023, beginning at 8:30 a.m.

ADDRESSES: Webinar registration information: https://attendee.gotowebinar.com/register/4897229620166984284. Call in information: 1 (562) 247-8422, Access Code: 208-654-676.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Scientific and Statistical Committee will meet to review the information provided by the Council's Red Crab Plan Development Team and recommend the overfishing limits (OFLs) and acceptable biological catches (ABCs) for red crab for fishing years 2024-27. They will also review draft analyses provided by Council contractors on recruitment assumptions used in stock projections for white hake and comment on their utility when modifying the rebuilding plan and setting specifications. They will provide comment on the draft NOAA technical memorandum: Technical Guidance for Estimating Status Determination Reference Points and their Proxies in Accordance with the National Standard 1 Guidelines. Other business will be discussed including brief updates on: Identifying SSC members to serve as discussion leads for developing ABC recommendations; Enhancing use of SSC sociocultural and economic expertise; Planning the 8th meeting of the CCC Scientific Coordination Subcommittee and Commenting on updating National Standards 4, 8, and 9 Guidelines.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: July 20, 2023.
Rey Israel Marquez,
Acting Deputy Director, Office of Sustainable Fisheries, National Marine Fisheries Service.

[FR Doc. 2023-15722 Filed 7-24-23; 8:45 am]

BILLING CODE 3510-22-P